FEDERAL MARITIME COMMISSION

[Docket No. 18-09]

Notice of Filing of Complaint and Assignment: Hanlon Sculpture Studio, Complainant v SAE Worldtrans Logistics f/k/a Worldtrans, Respondent

Served: October 19, 2018.

Notice is given that a complaint has been filed with the Federal Maritime Commission (Commission) by Hanlon Sculpture Studio, hereinafter “Complainant”, against SAE Worldtrans Logistics f/k/a Worldtrans, hereinafter “Respondent”. Complainant states that it is a businesses located in New Jersey. Complainant states that Respondent is a common carrier licensed by the Federal Maritime Commission and is located in California.

Complainant states that it “. . . engaged the services of [Respondent] to ship a steel sculpture from Fujian China to Providence, RI.” Complainant alleges that “. . . the sculpture was damaged when it collided with an over pass seven miles from its destination.” Complainant alleges that Respondent “. . . has failed to rectify any of the above issues or renumerate [its] losses.”

Complainant alleges that “Respondent violated Section 41102(b)& (c) in such that Respondent operated without an agreement with HSS, did not enforce reasonable regulations and practices relating to record handling, storage or delivery property and by failing to provide account pricing or explanation of charges.”

Complainant seeks reparations in the amount of $476, 200. The full text of the complaint can be found in the Commission's Electronic Reading Room at www.fmc.gov/18-09.

This proceeding has been assigned to Office of Administrative Law Judges. The initial decision of the presiding office in this proceeding shall be issued by October 21, 2019, and the final decision of the Commission shall be issued by May 4, 2020.

Rachel E. Dickon,
Secretary.

[FR Doc. 2018-23316 Filed 10-24-18; 8:45 am]

BILLING CODE 6731-AA-P